DEPARTMENT OF JUSTICE

Notice of Lodging Proposed Consent Decree

In accordance with Departmental Policy, 28 CFR 50.7, notice is hereby given that a proposed Consent Decree in United States v. Alaska Sutherlin Knolls, Civ. No. 07-1084 AS (D.Or.), was lodged with the United States District Court for the District of Oregon on July 27, 2007.

This proposed Consent Decree concerns a complaint filed by the United States against Alaska Sutherlin Knolls, pursuant to Section 309 of the Clean Water Act to obtain injunctive relief from and impose civil penalties against the Defendant for violating the Clean Water Act by discharging pollutants into waters of the United States that do not comply with a Clean Water Act permit. The proposed Consent Decree resolves these allegations by requiring the Defendant to restore impacted areas and perform mitigation and to pay a civil penalty.

The Department of Justice will accept written comments relating to this proposed Consent Decree for thirty (30) days from the date of publication of this Notice. Please address comments to David J. Kaplan, United States Department of Justice, P.O. Box 23986, Washington DC 20026-3986, and refer to United States v. Alaska Sutherlin Knolls, DJ No. 90-5-1-1-17836.

The proposed Consent Decree may be examined at the Clerk's Office, United States District Court for the District of Oregon, 740 Mark O. Hatfield, United States Courthouse, 1000 Southwest Third Avenue, Portland, OR 97204-2802. In addition, the proposed Consent Decree may be viewed at http://www.usdoj.gov/enrd/Consent_Decrees.html.

Russell M. Young,
Assistant Chief, Environmental Defense Section, Environment & Natural Resources Division.

[FR Doc. 07-3792 Filed 8-2-07; 8:45 am]

BILLING CODE 4410-15-M